DEPARTMENT OF TRANSPORTATION

Federal Highway Administration

Notice To Rescind a Notice of Intent for an Environmental Impact Statement for the State Route 95 Realignment Study: Interstate 40 to State Route 68, Mohave County, Arizona

AGENCY: Federal Highway Administration (FHWA), Department of Transportation.

ACTION: Notice to rescind a Notice of Intent for an Environmental Impact Statement.

SUMMARY: A Notice of Intent (NOI) to prepare an Environmental Impact Statement (EIS) was published in the Federal Register on June 1, 2007. A revised NOI was published on December 23, 2013 to advise that the review process was being changed to a tiered process in which a Tier 1 EIS would be prepared to evaluate potential corridors for a future project-specific alignment. The FHWA is issuing this notice to advise the public that FHWA and the Arizona Department of Transportation (ADOT) will no longer prepare a Tier 1 EIS for the proposed realignment of State Route (SR) 95 from Interstate 40 (I-40) to SR 68 in Mohave County, Arizona because funding to complete improvements in the foreseeable future is not available.

FOR FURTHER INFORMATION CONTACT: Alan Hansen, Team Leader, Planning, Environment, Air Quality, and Realty, Federal Highway Administration, 4000 North Central Avenue, Suite 1500, Phoenix, AZ 85012-3500, Telephone: (602) 382-8964, Email: alan.hansen@dot.gov.

Ammon Heier, Area Engineer, Federal Highway Administration, 4000 North Central Avenue, Suite 1500, Phoenix, AZ 85012-3500, Telephone: (602) 382-8983, Email: ammon.heier@dot.gov.

The FHWA Arizona Division Office's normal business hours are 8 a.m. to 5 p.m. (Mountain Standard Time).

SUPPLEMENTARY INFORMATION: On June 1, 2007, the FHWA, in cooperation with ADOT, issued an NOI titled: Environmental Impact Statement: Mohave County, AZ” (Federal Register Vol. 72, No. 105). The intent of the project was to realign SR 95 beginning approximately two miles south of I-40 and extending north to SR 68 for a distance of approximately 42 miles. The reconstruction of SR 95 was considered necessary to provide for an access-controlled highway to facilitate regional traffic flow and reduce traffic congestion. The project was issued a Federal Aid Number STP-095-D (AMS) and an ADOT project number 095 MO 200 H6801 03L.

A No-Build Alternative and at least two different alignments for potential relocation and development of the highway as a limited access facility located east of the existing SR 95 highway were under consideration. The No-Build Alternative served as the baseline for the analysis conducted under the National Environmental Policy Act.

On December 23, 2013, FHWA revised the NOI to announce that FHWA and the project sponsor, ADOT, intended to use a tiered process (as provided for in 40 Code of Federal Regulations 1508.28 and in accordance with FHWA guidance) in the completion of the environmental study to facilitate project decision-making. A Tier 1 EIS was initiated to focus on the evaluation of corridors rather than alignments because sufficient funding to implement, operate, and maintain the proposed project had not yet been committed in the fiscally-constrained State Transportation Improvement Program.

The State's limited resources combined with the fact that no improvements can be budgeted in the foreseeable future does not justify continuing to study improvements to a corridor that cannot be implemented when the study is eventually completed. As such, the preparation of the EIS for the realignment of SR 95: I-40 to SR 68 is being terminated. Any future transportation improvements or realignment of SR 95 will be determined and prioritized through ADOT's Long-Range Transportation Plan and 5-Year Transportation Facilities Construction Program, and any future actions will progress under a separate environmental review process, in accordance with all applicable laws and regulations.

(Catalog of Federal Domestic Assistance Program Number 20.205, Highway Planning and Construction. The regulations implementing Executive Order 12372 regarding intergovernmental consultation on Federal programs and activities apply to this program.)

Issued on: September 2, 2015.
Karla S. Petty,
Arizona Division Administrator, Federal Highway Administration, Phoenix, AZ.

[FR Doc. 2015-22871 Filed 9-9-15; 8:45 am]

BILLING CODE P